DEPARTMENT OF THE INTERIOR

Fish and Wildlife Service

[FWS-R1-ES-2019-N080; FXES11140100000-190-FF01E00000]

Proposed Site Plans Under a Candidate Conservation Agreement With Assurances for the Fisher in Oregon; Enhancement of Survival Permit Applications

AGENCY: Fish and Wildlife Service, Interior.

ACTION: Notice of availability; request for comments.

SUMMARY: We, the U.S. Fish and Wildlife Service (Service), have received five enhancement of survival permit (permit) applications pursuant to the Endangered Species Act (ESA) that we are processing as a batch. If granted, the requested permits would authorize the incidental take of the fisher, should the species become federally listed in the future under the ESA. The permit applications are associated with a template candidate conservation agreement with assurances (CCAA) previously developed for the conservation of the fisher. The conservation measures in the CCAA are intended to provide for a net conservation benefit to the fisher. We also have prepared individual draft environment action statements (EASs) pursuant to the requirements of the National Environmental Policy Act of 1969 (NEPA) for the potential issuance of each of these permits. We are making the permit application packages and draft EASs available for public review and comment.

DATES: To ensure consideration, written comments must be received from interested parties no later than August 2, 2019.

ADDRESSES: To request further information or submit written comments, please use one of the following methods, and note that your information request or comments are in reference to the “Fisher CCAA” and indicate by name which permit application (see below) you are interested in or addressing.

• Internet: Documents may be viewed on the internet at http://www.fws.gov/oregonfwo/.

• Email: fisherCCAAcomments@fws.gov. Include “Fisher CCAA” in the subject line of the message or comments.

• U.S. Mail: State Supervisor, Oregon Fish and Wildlife Office, U.S. Fish and Wildlife Service; 2600 SE 98th Avenue, Suite 100; Portland, OR 97266.

• Fax: 503-231-6195, Attn: Fisher CCAA.

• In-Person Drop-off, Viewing, or Pickup: Comments and materials received will be available for public inspection, by appointment (necessary for viewing or picking up documents only), during normal business hours at the Oregon Fish and Wildlife Office (at the above address); call 503-231-6179 to make an appointment. Written comments can be dropped off during regular business hours at the above address on or before the closing date of the public comment period (see DATES).

FOR FURTHER INFORMATION CONTACT: Richard Szlemp (see ADDRESSES); telephone: 503-231-6179; facsimile: 503-231- 6195. If you use a telecommunications device for the deaf, please call the Federal Relay Service at 800-877-8339.

SUPPLEMENTARY INFORMATION: We, the Service, have received five permit applications from timber land owners in Oregon pursuant to section 10(a)(1)(A) of the Endangered Species Act of 1973, as amended (ESA; 16 U.S.C. 1531 et seq.). The requested permits would authorize incidental take of the fisher (Pekania pennanti) during the applicants' routine forest-related management activities until June 20, 2048, or the remaining duration of the CCAA, should the fisher become federally listed in the future under the ESA. Each permit application includes a proposed individual site plan written under the template CCAA previously developed for the conservation of the fisher. We also have prepared individual draft environment action statements (EASs) pursuant to the requirements of the National Environmental Policy Act of 1969 (NEPA; 42 U.S.C. 4321 et seq.) for the potential issuance of each of these permits.

Background

A CCAA is a voluntary agreement whereby landowners agree to manage their lands to remove or reduce threats to species that may become listed under the ESA (64 FR 32726; June 17, 1999). CCAAs are intended to facilitate the conservation of proposed and candidate species, and species likely to become candidates in the near future, by giving non-Federal property owners incentives to implement conservation measures for declining species by providing certainty with regard to land, water, or resource use restrictions that might be imposed should the species later become listed as threatened or endangered under the ESA. In return for managing their lands to the benefit of the covered species, enrolled landowners receive assurances that additional regulatory requirements pertaining to the covered species will not be required if the covered species becomes listed as threatened or endangered under the ESA, so long as the CCAA remains in place and is being fully implemented.

A CCAA serves as the basis for the Service to issue permits to non-Federal participants pursuant to section 10(a)(1)(A) of the ESA. Application requirements and issuance criteria for permits under CCAAs are found in the Code of Regulations (CFR) at 50 CFR 17.22(d) and 17.32(d). The Service developed a template CCAA for the West Coast distinct population segment (DPS) of the fisher in Oregon and a draft EAS for future permit issuance under the finalized template to comply with NEPA. The template CCAA and the EAS were noticed for comment in the Federal Register (81 FR 15737; March 24, 2016). The template CCAA and EAS were finalized and signed by the Service on June 20, 2018.

The CCAA template established general guidelines and identified minimum conservation measures for potential participants in the CCAA. Interested participants can voluntarily enroll their property under the CCAA through development of individual site plans written in accordance with the CCAA and that are submitted as part of their permit applications. The permits would authorize incidental take with assurances to qualifying landowners who carry out conservation measures that would benefit the West Coast DPS of the fisher.

Proposed Actions

Pursuant to the ESA, we have received an application for a section 10(a)(1)(A) permit under the template CCAA from each of the following five timber landowners (applicants) for their identified lands in Oregon:

• Hancock Forest Management

• Lone Rock Timber Management Company

• Oregon Department of Forestry

• Roseburg Resources Company

• Weyerhaeuser Company

Each requested permit would authorize incidental take of the fisher, should it become federally listed, during the applicant's routine forest-related management activities on their managed properties until June 20, 2048, or the current time remaining under the template CCAA.

Each permit application includes a proposed site plan that describes the lands to be covered by the permit and the required conservation measures of the template CCAA as they will be specifically enacted by the individual applicant. Primary conservation measures common to all five site plans include:

• Allowing access to covered lands to conduct fisher surveys;

• Protecting denning fisher and their young by limiting disturbance and impacts to denning structures;

• Limiting trapping/nuisance control for other animals that could pose a risk to fisher (note: Trapping of fisher is prohibited by State law);

• Allowing the potential future translocation of the fisher onto enrolled lands; and

• Promoting the development of habitat structures that would support the fisher.

Public Comments

We are making the five permit application packages, including the individual site plans and the five draft EASs, available for public review and comment (see ADDRESSES). The final template CCAA and EAS that were finalized and signed by the Service on June 20, 2018, are also available for reference. You may submit your comments and materials by one of the methods listed in the ADDRESSES section. We request data, comments, new information, or suggestions from the public, other concerned governmental agencies, the scientific community, Tribes, industry, or any other interested party on our proposed Federal action, including adequacy of the site plan in relation to the template CCAA, pursuant to the requirements for permits at 50 CFR parts 13 and 17.

Public Availability of Comments

All comments and materials we receive become part of the public record associated with this action. Before including your address, phone number, email address, or other personal identifying information in your comments, you should be aware that your entire comment—including your personal identifying information—may be made publicly available at any time. While you can ask us in your comment to withhold your personal identifying information from public review, we cannot guarantee that we will be able to do so. All submissions from organizations or businesses, and from individuals identifying themselves as representatives or officials of organizations or businesses, will be made available for public disclosure in their entirety. Comments and materials we receive, as well as supporting documentation, will be available for public inspection by appointment, during normal business hours, at our Oregon Fish and Wildlife Office (see ADDRESSES).

Authority

We provide this notice in accordance with the requirements of section 10(c) of the ESA (16 U.S.C. 1531 et seq.) and NEPA (42 U.S.C. 4321 et seq.), and their implementing regulations (50 CFR 17.22, and 40 CFR 1506.6, respectively).

Robyn Thorson,
Regional Director, Pacific Region, U.S. Fish and Wildlife Service.

[FR Doc. 2019-14206 Filed 7-2-19; 8:45 am]

BILLING CODE 4333-15-P